DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Northeast Illinois Railroad Corporation

(Waiver Petition Docket Number FRA-2008-0019)

The Northeast Illinois Railroad Corporation (Metra), a commuter passenger railroad, seeks a waiver of compliance from the requirements of 49 CFR 223.9 Requirements for new or rebuilt equipment for Two highway capable vehicles/locomotives. Specifically, Metra petitioned FRA for a waiver from compliance for two hi-rail locomotive vehicles manufactured by Brandt Road Rail Corporation, numbers 05008 and 05009. These vehicles would be utilized to move stranded passenger trains during a rescue operation.

Metra operates a commuter railroad in the six northeast counties of Illinois, surrounding the city of Chicago. There are approximately 787 daily trains over twelve separate line segments, with a fleet of 142 locomotives, 173 MU locomotives, and 822 cab control/trailer cars.

The petitioner believes that these Brandt hi-rail vehicles/locomotives can be safely operated with the current non-compliant shatter resistant safety-type glazing. If compliant FRA Types II glazing were installed in these vehicles in the drivers and passenger doors, the side facing windows could not roll down when needed, thus becoming stationary. Metra intends to install compliant FRA Type I glazing in the front windshield and rear facing window on these vehicles.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0019) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on May 6, 2008.
Grady C. Cothen, Jr.,
Deputy Associate Administrator for Safety Standards and Program Development.

[FR Doc. E8-10471 Filed 5-9-08; 8:45 am]

BILLING CODE 4910-06-P